ENVIRONMENTAL PROTECTION AGENCY

40 CFR Part 52

[EPA-R09-OAR-2025-0216; FRL-12613-02-R9]

Air Plan Approval; Guam; Guam Environmental Protection Agency; New Source Review

AGENCY: Environmental Protection Agency (EPA).

ACTION: Final rule.

SUMMARY: The Environmental Protection Agency (EPA) is finalizing an approval of a revision to the Guam state implementation plan (SIP). This revision governs the Guam Environmental Protection Agency's (GEPA) issuance of permits for stationary sources and focuses on the preconstruction review and permitting of major sources and major modifications under the Clean Air Act (CAA or “the Act”).

DATES: This rule is effective on October 20, 2025.

ADDRESSES: The EPA has established a docket for this action under Docket ID No. EPA-R09-OAR-2025-0216 at https://www.regulations.gov. All documents in the docket are listed on the https://www.regulations.gov website. Although listed in the index, some information is not publicly available, e.g., Confidential Business Information (CBI) or other information the disclosure of which is restricted by statute. Certain other material, such as copyrighted material, is not placed on the internet and will be publicly available only in hard copy form. Publicly available docket materials are available through https://www.regulations.gov, or please contact the person identified in the FOR FURTHER INFORMATION CONTACT section. If you need assistance in a language other than English or if you are a person with disabilities who needs a reasonable accommodation at no cost to you, please contact the person identified in the FOR FURTHER INFORMATION CONTACT section.

FOR FURTHER INFORMATION CONTACT: Cecelia Working, EPA Region IX, 75 Hawthorne St., San Francisco, CA 94105; telephone number: (213) 244-1911; email address: working.cece@epa.gov.

SUPPLEMENTARY INFORMATION: Throughout this document, “we,” “us,” and “our” refer to the EPA.

Table of Contents

I. Proposed Action

II. Public Comments and EPA Action

III. Incorporation by Reference

IV. Statutory and Executive Order Reviews

I. Proposed Action

On June 18, 2025 (90 FR 25984), the EPA proposed to approve the rule listed in table 1. The GEPA is the air pollution control agency for Guam and the designated state ¹ lead agency for submitting revisions of the Guam SIP to the EPA. The rule that is the subject of the EPA's current action was adopted into the Guam Administrative Rules and Regulations (GAR) on December 28, 2022, and became effective on December 29, 2022.²

¹ CAA section 302(d) defines the term “State” to include Guam.

² The Guam Governor signed the law completing the multi-step process for adopting Article 8 into the GAR on December 28, 2022, following an earlier rulemaking process by the GEPA that concluded on October 17, 2022, and a subsequent legislative approval process that concluded on December 16, 2022.

Table 1—Submitted Rule
Air agency | Rule or regulation No. | Rule title | State adoption date | State effective date | State submittal date
GEPA | Title 22, Division 1, Chapter 1, Article 8 | Guam Air Pollution Standards and Regulations New Source Review Requirements for New and Modified Major Sources in SO2 Nonattainment Areas Adopted on October 17, 2022 | 12/28/2022 | 12/29/2022 | 03/13/2025

In our proposed action, we proposed approval of the GEPA's submitted nonattainment new source review (NNSR) rule because the rule satisfies the applicable NNSR requirements associated with the designation of the Piti-Cabras area as nonattainment for the 2010 1-hour sulfur dioxide (SO2) standard. Our proposed action contains more information on the rule and our evaluation.

II. Public Comments and EPA Action

The EPA's proposed action provided a 30-day public comment period. During this period, no comments were submitted on our proposal. Therefore, the EPA continues to find that the submitted rule should be approved into the Guam SIP because it fulfills all relevant CAA requirements. As authorized in section 110(k)(3) of the Act, the EPA is approving the submitted rule because it fulfills all relevant requirements. Our action will be codified through revisions to 40 CFR 52.2670 (Identification of plan). With this final action, the NNSR element of the EPA's obligation as to this nonattainment area under the consent decree in Center for Biological Diversity et al. v. Regan, No. 4:24-cv-01900-HSG (N.D. Cal.), doc. 28, paragraph 1.c-d will also be met.

III. Incorporation by Reference

In this rule, the EPA is finalizing regulatory text that includes incorporation by reference. In accordance with requirements of 1 CFR 51.5, the EPA is incorporating by reference Guam Administrative Rules and Regulations Title 22, Division 1, Chapter 1, Article 8, “Guam Air Pollution Standards and Regulations New Source Review Requirements for New and Modified Major Sources in SO2 Nonattainment Areas Adopted on October 17, 2022,” which was adopted by Guam on December 28, 2022, and effective December 29, 2022. Article 8 is intended to address the CAA's statutory and regulatory requirements for NNSR permit programs for major sources emitting nonattainment air pollutants under part D of title I of the CAA. The EPA has made, and will continue to make, these materials available through https://www.regulations.gov and at the EPA Region IX Office (please contact the person identified in the FOR FURTHER INFORMATION CONTACT section of this preamble for more information).

IV. Statutory and Executive Order Reviews

Under the CAA, the Administrator is required to approve a SIP submission that complies with the provisions of the Act and applicable federal regulations. 42 U.S.C. 7410(k); 40 CFR 52.02(a). Thus, in reviewing SIP submissions, the EPA's role is to approve state choices, provided that they meet the criteria of the CAA. Accordingly, this action merely approves state law as meeting federal requirements and does not impose additional requirements beyond those imposed by state law. For that reason, this action:

• Is not a significant regulatory action subject to review by the Office of Management and Budget under Executive Order 12866 (58 FR 51735, October 4, 1993);

• Is not subject to Executive Order 14192 (90 FR 9065, February 6, 2025) because SIP actions are exempt from review under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have federalism implications as specified in Executive Order 13132 (64 FR 43255, August 10, 1999);

• Is not subject to Executive Order 13045 (62 FR 19885, April 23, 1997) because it approves a state program;

• Is not a significant regulatory action subject to Executive Order 13211 (66 FR 28355, May 22, 2001); and

• Is not subject to requirements of section 12(d) of the National Technology Transfer and Advancement Act of 1995 (15 U.S.C. 272 note) because application of those requirements would be inconsistent with the CAA.

In addition, the SIP is not approved to apply on any Indian reservation land or in any other area where the EPA or an Indian Tribe has demonstrated that a Tribe has jurisdiction. In those areas of Indian country, the rule does not have Tribal implications and will not impose substantial direct costs on Tribal governments or preempt Tribal law as specified by Executive Order 13175 (65 FR 67249, November 9, 2000).

This action is subject to the Congressional Review Act (CRA), and the EPA will submit a rule report to each House of the Congress and to the Comptroller General of the United States. This action is not a “major rule” as defined by 5 U.S.C. 804(2).

Under section 307(b)(1) of the Clean Air Act, petitions for judicial review of this action must be filed in the United States Court of Appeals for the appropriate circuit by November 17, 2025. Filing a petition for reconsideration by the Administrator of this final rule does not affect the finality of this action for the purposes of judicial review nor does it extend the time within which a petition for judicial review may be filed, and shall not postpone the effectiveness of such rule or action. This action may not be challenged later in proceedings to enforce its requirements (see section 307(b)(2)).

List of Subjects in 40 CFR Part 52

Environmental protection, Administrative practice and procedure, Air pollution control, Incorporation by reference, Intergovernmental relations, Reporting and recordkeeping requirements, and Sulfur dioxide.

Authority: 42 U.S.C. 7401 et seq.

Dated: September 10, 2025.
Michael Martucci,
Acting Regional Administrator, Region IX.

For reasons stated in the preamble, the Environmental Protection Agency amends part 52, chapter I, title 40 of the Code of Federal Regulations as follows:

PART 52—APPROVAL AND PROMULGATION OF IMPLEMENTATION PLANS

1. The authority citation for part 52 continues to read as follows:

Authority: 42 U.S.C. 7401 et seq.

Subpart AAA—Guam

2. In § 52.2670, the table in paragraph (c) is amended by adding the center heading “Post-2011 Compilation of Rules and Regulations”, “Title 22, Division 1, Chapter 1”, “Article 8” and the entries “Section 1801”, “Section 1801.1”, “Section 1801.2”, “Section 1801.3”, “Section 1801.4”, “Section 1801.5”, “Section 1801.6”, “Section 1801.7”, “Section 1801.8”, “Section 1802”, “Section 1803”, “Section 1803.1”, “Section 1803.2”, “Section 1803.3”, “Section 1803.4”, “Section 1803.5”, “Section 1803.6”, “Section 1804”, “Section 1804.1”, “Section 1804.2”, “Section 1804.3”, “Section 1804.4” “Section 1804.5”, “Section 1805”, “Section 1805.1”, “Section 1805.2”, “Section 1805.3”, “Section 1806”, “Section 1806.1”, “Section 1806.2”, “Section 1806.3”, “Section 1806.4”, “Section 1806.5”, “Section 1806.6”, “Section 1807”, “Section 1807.1”, “Section 1807.2”, “Section 1807.3”, “Section 1807.4”, “Section 1808”, “Section 1809”, “Section 1810”, and “Section 1811” after the entry “Chapter 17.1-17.4” to read as follows:

§ 52.2670 Identification of plan.

* * * * *

(c) * * *

Table 52.2670—EPA Approved Territory of Guam Regulations
State citation | Title/subject | Effective date | EPA approval date | Explanation
* * * * * * *
Post-2011 Compilation of Rules and Regulations
Title 22, Division 1, Chapter 1
Article 8
Section 1801 | Applicability Procedures | 12/29/2022 | 9/18/2025, 90 FR [INSERT FEDERAL REGISTER PAGE WHERE THE DOCUMENT BEGINS] | Submitted on March 13, 2025, as an attachment to a letter of the same date.
Section 1801.1 | Preconstruction Review Requirements | 12/29/2022 | 9/18/2025, 90 FR [INSERT FEDERAL REGISTER PAGE WHERE THE DOCUMENT BEGINS] | Submitted on March 13, 2025, as an attachment to a letter of the same date.
Section 1801.2 | Nonattainment Major New Source Review (NSR) Permit Requirement | 12/29/2022 | 9/18/2025, 90 FR [INSERT FEDERAL REGISTER PAGE WHERE THE DOCUMENT BEGINS] | Submitted on March 13, 2025, as an attachment to a letter of the same date.
Section 1801.3 | Emission Calculation Requirements to Determine New Source Review (NSR) Applicability | 12/29/2022 | 9/18/2025, 90 FR [INSERT FEDERAL REGISTER PAGE WHERE THE DOCUMENT BEGINS] | Submitted on March 13, 2025, as an attachment to a letter of the same date.
Section 1801.4 | Major Sources with Plant-Wide Applicability Limitations | 12/29/2022 | 9/18/2025, 90 FR [INSERT FEDERAL REGISTER PAGE WHERE THE DOCUMENT BEGINS] | Submitted on March 13, 2025, as an attachment to a letter of the same date.
Section 1801.5 | Projects That Rely on a Projected Actual Emissions Test | 12/29/2022 | 9/18/2025, 90 FR [INSERT FEDERAL REGISTER PAGE WHERE THE DOCUMENT BEGINS] | Submitted on March 13, 2025, as an attachment to a letter of the same date.
Section 1801.6 | Secondary Emissions | 12/29/2022 | 9/18/2025, 90 FR [INSERT FEDERAL REGISTER PAGE WHERE THE DOCUMENT BEGINS] | Submitted on March 13, 2025, as an attachment to a letter of the same date.
Section 1801.7 | Stationary Sources | 12/29/2022 | 9/18/2025, 90 FR [INSERT FEDERAL REGISTER PAGE WHERE THE DOCUMENT BEGINS] | Submitted on March 13, 2025, as an attachment to a letter of the same date.
Section 1801.8 | Environmental Protection Agency Determination | 12/29/2022 | 9/18/2025, 90 FR [INSERT FEDERAL REGISTER PAGE WHERE THE DOCUMENT BEGINS] | Submitted on March 13, 2025, as an attachment to a letter of the same date.
Section 1802 | Definitions | 12/29/2022 | 9/18/2025, 90 FR [INSERT FEDERAL REGISTER PAGE WHERE THE DOCUMENT BEGINS] | Submitted on March 13, 2025, as an attachment to a letter of the same date.
Section 1803 | Application Requirements | 12/29/2022 | 9/18/2025, 90 FR [INSERT FEDERAL REGISTER PAGE WHERE THE DOCUMENT BEGINS] | Submitted on March 13, 2025, as an attachment to a letter of the same date.
Section 1803.1 | Application Submittal | 12/29/2022 | 9/18/2025, 90 FR [INSERT FEDERAL REGISTER PAGE WHERE THE DOCUMENT BEGINS] | Submitted on March 13, 2025, as an attachment to a letter of the same date.
Section 1803.2 | Application Content | 12/29/2022 | 9/18/2025, 90 FR [INSERT FEDERAL REGISTER PAGE WHERE THE DOCUMENT BEGINS] | Submitted on March 13, 2025, as an attachment to a letter of the same date.
Section 1803.3 | Lowest Achievable Emission Rate (LAER) | 12/29/2022 | 9/18/2025, 90 FR [INSERT FEDERAL REGISTER PAGE WHERE THE DOCUMENT BEGINS] | Submitted on March 13, 2025, as an attachment to a letter of the same date.
Section 1803.4 | Certification of Compliance | 12/29/2022 | 9/18/2025, 90 FR [INSERT FEDERAL REGISTER PAGE WHERE THE DOCUMENT BEGINS] | Submitted on March 13, 2025, as an attachment to a letter of the same date.
Section 1803.5 | Analysis of Alternatives | 12/29/2022 | 9/18/2025, 90 FR [INSERT FEDERAL REGISTER PAGE WHERE THE DOCUMENT BEGINS] | Submitted on March 13, 2025, as an attachment to a letter of the same date.
Section 1803.6 | Application Fees | 12/29/2022 | 9/18/2025, 90 FR [INSERT FEDERAL REGISTER PAGE WHERE THE DOCUMENT BEGINS] | Submitted on March 13, 2025, as an attachment to a letter of the same date.
Section 1804 | Emissions Offsets | 12/29/2022 | 9/18/2025, 90 FR [INSERT FEDERAL REGISTER PAGE WHERE THE DOCUMENT BEGINS] | Submitted on March 13, 2025, as an attachment to a letter of the same date.
Section 1804.1 | Offset Requirements | 12/29/2022 | 9/18/2025, 90 FR [INSERT FEDERAL REGISTER PAGE WHERE THE DOCUMENT BEGINS] | Submitted on March 13, 2025, as an attachment to a letter of the same date.
Section 1804.2 | Timing | 12/29/2022 | 9/18/2025, 90 FR [INSERT FEDERAL REGISTER PAGE WHERE THE DOCUMENT BEGINS] | Submitted on March 13, 2025, as an attachment to a letter of the same date.
Section 1804.3 | Quantity | 12/29/2022 | 9/18/2025, 90 FR [INSERT FEDERAL REGISTER PAGE WHERE THE DOCUMENT BEGINS] | Submitted on March 13, 2025, as an attachment to a letter of the same date.
Section 1804.4 | Emission Reduction Requirements | 12/29/2022 | 9/18/2025, 90 FR [INSERT FEDERAL REGISTER PAGE WHERE THE DOCUMENT BEGINS] | Submitted on March 13, 2025, as an attachment to a letter of the same date.
Section 1804.5 | Restrictions on Trading Pollutants | 12/29/2022 | 9/18/2025, 90 FR [INSERT FEDERAL REGISTER PAGE WHERE THE DOCUMENT BEGINS] | Submitted on March 13, 2025, as an attachment to a letter of the same date.
Section 1805 | Administrative Requirements | 12/29/2022 | 9/18/2025, 90 FR [INSERT FEDERAL REGISTER PAGE WHERE THE DOCUMENT BEGINS] | Submitted on March 13, 2025, as an attachment to a letter of the same date.
Section 1805.1 | Ambient Air Quality Standards | 12/29/2022 | 9/18/2025, 90 FR [INSERT FEDERAL REGISTER PAGE WHERE THE DOCUMENT BEGINS] | Submitted on March 13, 2025, as an attachment to a letter of the same date.
Section 1805.2 | Air Quality Models | 12/29/2022 | 9/18/2025, 90 FR [INSERT FEDERAL REGISTER PAGE WHERE THE DOCUMENT BEGINS] | Submitted on March 13, 2025, as an attachment to a letter of the same date.
Section 1805.3 | Stack Height Procedures | 12/29/2022 | 9/18/2025, 90 FR [INSERT FEDERAL REGISTER PAGE WHERE THE DOCUMENT BEGINS] | Submitted on March 13, 2025, as an attachment to a letter of the same date.
Section 1806 | Nonattainment Major New Source Review (NSR) Permit—Decision | 12/29/2022 | 9/18/2025, 90 FR [INSERT FEDERAL REGISTER PAGE WHERE THE DOCUMENT BEGINS] | Submitted on March 13, 2025, as an attachment to a letter of the same date.
Section 1806.1 | Preliminary Decision | 12/29/2022 | 9/18/2025, 90 FR [INSERT FEDERAL REGISTER PAGE WHERE THE DOCUMENT BEGINS] | Submitted on March 13, 2025, as an attachment to a letter of the same date.
Section 1806.2 | Nonattainment Major New Source Review (NSR) Permit—Preliminary Decision Requirements | 12/29/2022 | 9/18/2025, 90 FR [INSERT FEDERAL REGISTER PAGE WHERE THE DOCUMENT BEGINS] | Submitted on March 13, 2025, as an attachment to a letter of the same date.
Section 1806.3 | Nonattainment Major New Source Review (NSR) Permit Contents | 12/29/2022 | 9/18/2025, 90 FR [INSERT FEDERAL REGISTER PAGE WHERE THE DOCUMENT BEGINS] | Submitted on March 13, 2025, as an attachment to a letter of the same date.
Section 1806.4 | Nonattainment Major New Source Review (NSR) Permit—Final Decision | 12/29/2022 | 9/18/2025, 90 FR [INSERT FEDERAL REGISTER PAGE WHERE THE DOCUMENT BEGINS] | Submitted on March 13, 2025, as an attachment to a letter of the same date.
Section 1806.5 | Ongoing Permit Requirements | 12/29/2022 | 9/18/2025, 90 FR [INSERT FEDERAL REGISTER PAGE WHERE THE DOCUMENT BEGINS] | Submitted on March 13, 2025, as an attachment to a letter of the same date.
Section 1806.6 | Technology Clearinghouse | 12/29/2022 | 9/18/2025, 90 FR [INSERT FEDERAL REGISTER PAGE WHERE THE DOCUMENT BEGINS] | Submitted on March 13, 2025, as an attachment to a letter of the same date.
Section 1807 | Source Obligations | 12/29/2022 | 9/18/2025, 90 FR [INSERT FEDERAL REGISTER PAGE WHERE THE DOCUMENT BEGINS] | Submitted on March 13, 2025, as an attachment to a letter of the same date.
Section 1807.1 | Enforcement | 12/29/2022 | 9/18/2025, 90 FR [INSERT FEDERAL REGISTER PAGE WHERE THE DOCUMENT BEGINS] | Submitted on March 13, 2025, as an attachment to a letter of the same date.
Section 1807.2 | Termination | 12/29/2022 | 9/18/2025, 90 FR [INSERT FEDERAL REGISTER PAGE WHERE THE DOCUMENT BEGINS] | Submitted on March 13, 2025, as an attachment to a letter of the same date.
Section 1807.3 | Compliance | 12/29/2022 | 9/18/2025, 90 FR [INSERT FEDERAL REGISTER PAGE WHERE THE DOCUMENT BEGINS] | Submitted on March 13, 2025, as an attachment to a letter of the same date.
Section 1807.4 | Relaxation in Enforceable Limitations | 12/29/2022 | 9/18/2025, 90 FR [INSERT FEDERAL REGISTER PAGE WHERE THE DOCUMENT BEGINS] | Submitted on March 13, 2025, as an attachment to a letter of the same date.
Section 1808 | Public Participation | 12/29/2022 | 9/18/2025, 90 FR [INSERT FEDERAL REGISTER PAGE WHERE THE DOCUMENT BEGINS] | Submitted on March 13, 2025, as an attachment to a letter of the same date.
Section 1809 | Plant-Wide Applicability Limits (PAL) | 12/29/2022 | 9/18/2025, 90 FR [INSERT FEDERAL REGISTER PAGE WHERE THE DOCUMENT BEGINS] | Submitted on March 13, 2025, as an attachment to a letter of the same date.
Section 1810 | Invalidation | 12/29/2022 | 9/18/2025, 90 FR [INSERT FEDERAL REGISTER PAGE WHERE THE DOCUMENT BEGINS] | Submitted on March 13, 2025, as an attachment to a letter of the same date.
Section 1811 | Effective Date for Referenced Federal Regulations | 12/29/2022 | 9/18/2025, 90 FR [INSERT FEDERAL REGISTER PAGE WHERE THE DOCUMENT BEGINS] | Submitted on March 13, 2025, as an attachment to a letter of the same date.

* * * * *

[FR Doc. 2025-18062 Filed 9-17-25; 8:45 am]

BILLING CODE 6560-50-P